DEPARTMENT OF COMMERCE

International Trade Administration

[A-520-809]

Prestressed Concrete Steel Wire Strand From the United Arab Emirates: Initiation of Antidumping Duty New Shipper Review

AGENCY: Enforcement and Compliance, International Trade Administration, Department of Commerce.

SUMMARY: The U.S. Department of Commerce (Commerce) has determined that a request for a new shipper review (NSR) of the antidumping duty order on prestressed concrete steel wire strand (PC strand) from the United Arab Emirates (UAE) meets the statutory and regulatory requirements for initiation. The period of review (POR) for the NSR is February 1, 2024, through July 31, 2024.

DATES: Applicable September 13, 2024,

FOR FURTHER INFORMATION CONTACT: Alexander Cipolla or Brendan Quinn, AD/CVD Operations, Office III, Enforcement and Compliance, International Trade Administration, U.S. Department of Commerce, 1401 Constitution Avenue NW, Washington, DC 20230; telephone: (202) 482-4956 or (202) 482-5848, respectively.

SUPPLEMENTARY INFORMATION:

Background

Commerce published the order on PC Strand from the UAE on February 1, 2021.¹ On August 6, 2024, pursuant to section 751(a)(2)(B)(i) of the Tariff Act of 1930, as amended (the Act), and 19 CFR 351.214(c), Commerce received a timely NSR request from Essen Steel Industry L.L.C. (Essen Steel).²

¹ See Prestressed Concrete Steel Wire Strand from Argentina, Colombia, Egypt, the Netherlands, Saudi Arabia, Taiwan, the Republic of Turkey, and the United Arab Emirates: Antidumping Duty Orders, 86 FR 7703 (February 1, 2021) (Order).

² See Essen Steel's Letter, “Request for New Shipper Administrative Review of Antidumping Duty Order,” dated August 5, 2024 (NSR Request). We note that this request was filed after close of business on August 5, 2024. As such, we treat August 6, 2024, as the official file date. See, generally, 19 CFR 351.303(b)(1).

In its submission, Essen Steel certified that it is the producer and exporter of the subject merchandise subject to this NSR request.³ Pursuant to section 751(a)(2)(B)(i)(I) of the Act and 19 CFR 351.214(b)(2)(i), Essen Steel certified that it did not export PC strand to the United States during the period of investigation (POI).⁴ Additionally, pursuant to section 751(a)(2)(B)(i)(II) of the Act and 19 CFR 351.214(b)(2)(iii)(A), Essen Steel certified that, since the initiation of the investigation, it has not been affiliated with any producer or exporter that exported PC strand to the United States during the POI, including those not individually examined during the investigation.⁵

³ Id. at 2.

⁴ Id. at Exhibit 1.

⁵ Id.

In its submission, pursuant to 19 CFR 351.214(b)(2)(iv), Essen Steel certified that it will provide necessary information related to the unaffiliated customer in the United States during the NSR.⁶ Essen Steel also provided a certification by its unaffiliated customer of its willingness to participate in the NSR.⁷

⁶ Id.

⁷ Id. at Exhibit 2.

In addition to the certifications described above, pursuant to 19 CFR 351.214(b)(2)(v), Essen Steel submitted documentation establishing the following: (1) the date on which the subject merchandise was first entered, or withdrawn from warehouse, for consumption; (2) the volume of its first shipment, including whether such shipment was made in a commercial quantity; and (3) the date of its first sale to an unaffiliated customer in the United States.⁸ Essen Steel stated that it has not made subsequent shipments of subject merchandise during the POR.⁹

⁸ Id. at Exhibit 3.

⁹ Id. at 2.

Additionally, Essen Steel submitted documentation establishing the circumstances surrounding such sale, including: (1) the price of such sale; (2) any expenses arising from such sale; (3) whether the subject merchandise involved in such sale was resold in the United States at a profit; and (4) whether such sale were made on an arms-length basis.¹⁰ Essen Steel also submitted documentation regarding its business activities, including: (1) its offers to sell merchandise in the United States; (2) an identification of the complete circumstance surrounding its sales to the United States, as well as any home market or third country sales; and (3) an identification of its relationship to the first unaffiliated U.S. purchaser.¹¹

¹⁰ Id. at Exhibit 5.

¹¹ Id. at Exhibit 4.

Commerce conducted a query of U.S. Customs and Border Protection (CBP) data and confirmed that Essen Steel's subject merchandise entered the United States for consumption and that liquidation of such entries had been properly suspended for antidumping duties. The CBP data that Commerce examined are consistent with information provided by Essen Steel in its NSR request. In particular, the CBP data confirm the price and quantity reported by Essen Steel for the sale that forms the basis of its NSR request.¹²

¹² Id at Exhibit 3.; see also Memorandum, “Initiation of Antidumping Duty New Shipper Review,” dated concurrently with this notice.

Period of Review

In accordance with 19 CFR 351.214(g)(1)(i)(B), the POR for an NSR initiated in the month immediately following the semiannual anniversary month will be the six-month period immediately preceding the semiannual anniversary month. Therefore, the POR for this NSR is February 1, 2024, through July 31, 2024.

Initiation of NSR

Pursuant to section 751(a)(2)(B) of the Act and 19 CFR 351.214(b), and based on the information on the record, we find that Essen Steel's NSR request meets the threshold requirements for initiation of an NSR of its shipment of PC strand to the United States.¹³ However, if the information supplied by Essen Steel is later found to be incorrect or insufficient during the course of this NSR, Commerce may rescind the review or apply adverse facts available, pursuant to section 776 of the Act, as appropriate. Pursuant to 19 CFR 351.221(c)(1)(i), Commerce will publish the notice of initiation of an NSR no later than the last day of the month following the anniversary or semiannual anniversary month of the order. Commerce intends to issue the preliminary results of this review no later than 180 days from the date of initiation, and the final results of this review no later than 90 days after the date the preliminary results are issued.¹⁴

¹³ See, generally, NSR Request.

¹⁴ See section 751(a)(2)(B)(iii) of the Act.

We intend to conduct this NSR in accordance with section 751(a)(2)(B) of the Act.¹⁵ Because Essen Steel certified that it exported subject merchandise, the sale of which is the basis for its NSR request, Commerce will instruct CBP to continue to suspend liquidation of all entries of subject merchandise produced and exported by Essen Steel. To assist in its analysis of the bona fide nature of Essen Steel's sale, upon initiation of this NSR, Commerce will require Essen Steel to submit, on an ongoing basis, complete transaction information concerning any sales of subject merchandise to the United States that were made subsequent to the POR. Further, in accordance with section 751(a)(2)(B)(iv)(VII) of the Act and 19 CFR 351.214(k), Essen Steel will be required to provide information regarding the following factors for Commerce's consideration in determining whether the sales made by Essen Steel during the POR are bona fide: (1) whether the producer, exporter, or customer was established for purposes of the sale in question after the imposition of the relevant antidumping or countervailing duty order; (2) whether the producer, exporter, or customer has lines of business unrelated to the subject merchandise; (3) the quantity of sales; and (4) any other factor that Commerce determines to be relevant with respect to the future selling behavior of the producer or exporter, including any other indicia that the sale was not commercially viable.

¹⁵ The Act was amended by the Trade Facilitation and Trade Enforcement Act of 2015 which removed from section 751(a)(2)(B) of the Act the provision directing Commerce to instruct CBP to allow an importer the option of posting a bond or security in lieu of a cash deposit during the pendency of an NSR. This was also codified in Commerce's regulations at 19 CFR 351.214(e).

Interested parties requiring access to proprietary information in this NSR should submit applications for disclosure under administrative protective order in accordance with 19 CFR 351.305 and 351.306. This initiation notice is published in accordance with section 751(a)(2)(B) of the Act and 19 CFR 351.214 and 351.221(c)(1)(i).

Dated: September 9, 2024.
Scot Fullerton,
Acting Deputy Assistant Secretary for Antidumping and Countervailing Duty Operations.

[FR Doc. 2024-20801 Filed 9-12-24; 8:45 am]

BILLING CODE 3510-DS-P